DEPARTMENT OF COMMERCE

International Trade Administration

[A-570-825]

Sebacic Acid From the People's Republic of China: Preliminary Results of Antidumping Duty Administrative Review and Notice of Intent Not To Revoke

AGENCY: Import Administration, International Trade Administration, Department of Commerce.

SUMMARY: The Department of Commerce is conducting an administrative review of the antidumping duty order on sebacic acid from the People's Republic of China in response to a request by CasChem Inc., a domestic producer of the subject merchandise, and requests by Sinochem Tianjin Import & Export Corporation and Guangdong Chemicals Import & Export Corp., exporters of the subject merchandise. The period of review is July 1, 2000, through June 30, 2001. We have preliminarily found that sales of subject merchandise have been made below normal value for the respondents. If these preliminary results are adopted in our final results of administrative review, we will instruct the Customs Service to assess antidumping duties on entries subject to this review by these exporters.

EFFECTIVE DATE: August 6, 2002.

FOR FURTHER INFORMATION CONTACT: Mike Strollo, AD/CVD Enforcement, Group I, Office 2, Import Administration, International Trade Administration, U.S. Department of Commerce, 14th Street and Constitution Avenue, NW., Washington, DC 20230; telephone: (202) 482-0629.

Applicable Statute and Regulations: Unless otherwise indicated, all citations to the Tariff Act of 1930, as amended (the Act), are references to the provisions effective January 1, 1995, the effective date of the amendments made to the Act by the Uruguay Round Agreements Act (URAA). In addition, unless otherwise indicated, all citations to the Department of Commerce's regulations are to 19 CFR part 351 (2001).

SUPPLEMENTARY INFORMATION:

Background

On July 2, 2001, the Department of Commerce (the Department) published in the Federal Register a notice of “Opportunity to Request an Administrative Review” of the antidumping duty order on sebacic acid from the People's Republic of China (PRC) covering the period July 1, 2000, through June 30, 2001. See Antidumping or Countervailing Duty Order, Finding, or Suspended Investigation; Opportunity to Request Administrative Review, 66 FR 34910 (July 2, 2001).

On July 27, 2001, in accordance with 19 CFR 351.213(b)(2), Guangdong Chemicals Import & Export Corp. (Guangdong) and Sinochem Tianjin Import & Export Corporation (Tianjin), exporters of the subject merchandise, requested an administrative review. On July 31, 2001, in accordance with 19 CFR 351.213(b)(1), CasChem Inc., a U.S. producer of sebacic acid, requested an administrative review of Tianjin and one additional exporter, Sinochem International Chemicals Corp. (Sinochem International).

On July 31, 2001, in accordance with 19 CFR 351.214, Hengshui Dongfeng Chemicals Import & Export Co., Ltd. (Hengshui), a foreign producer of the subject merchandise, requested a new shipper review. On August 9, 2001, Hengshui withdrew this request.

On August 20, 2001, we published a notice of initiation of this administrative review, and we issued antidumping questionnaires to Guangdong, Sinochem International, and Tianjin. See Initiation of Antidumping and Countervailing Duty Administrative Reviews and Requests for Revocation in Part, 66 FR 43570 (Aug. 20, 2001).

On October 1, 2001, we received timely responses to sections A, C and D of the questionnaires from Guangdong and Tianjin. Sinochem International did not respond to our request for information. Accordingly, the Department has based the margin for Sinochem International on facts available for purposes of these preliminary results pursuant to section 776 of the Act and 19 CFR 351.308. For further discussion, see the “Use of Facts Available for Non-Responding Companies” section of this notice.

On October 3, 2001, the Department invited interested parties to submit publicly available information for consideration in valuing the factors of production. On June 24, 2002, Guangdong and Tianjin submitted data from the Economic Times of Bombay newspaper for consideration in valuing castor oil and castor seeds.

We issued supplemental questionnaires to Guangdong and Tianjin in February 2002. We received responses to these supplemental questionnaires in March 2002.

In June 2002, we verified the information submitted by Guangdong and Tianjin.

Scope of Review

The products covered by this review are all grades of sebacic acid, a dicarboxylic acid with the formula (CH2)8(COOH)2, which include but are not limited to CP Grade (500ppm maximum ash, 25 maximum APHA color), Purified Grade (1000ppm maximum ash, 50 maximum APHA color), and Nylon Grade (500ppm maximum ash, 70 maximum ICV color). The principal difference between the grades is the quantity of ash and color. Sebacic acid contains a minimum of 85 percent dibasic acids of which the predominant species is the C10 dibasic acid. Sebacic acid is sold generally as a free-flowing powder/flake. Sebacic acid has numerous industrial uses, including the production of nylon 6/10 (a polymer used for paintbrush and toothbrush bristles and paper machine felts), plasticizers, esters, automotive coolants, polyamides, polyester castings and films, inks and adhesives, lubricants, and polyurethane castings and coatings. Sebacic acid is currently classifiable under subheading 2917.13.00.30 of the Harmonized Tariff Schedule of the United States (HTSUS). Although the HTSUS subheading is provided for convenience and customs purposes, the written description of the scope of this proceeding is dispositive.

Notice of Intent Not To Revoke in Part

In its request dated July 27, 2001, Tianjin requested that the Department revoke the antidumping order on sebacic acid with respect to its sales of subject merchandise. Section 351.222(b)(2) of the Department's regulations notes that the Secretary may revoke an antidumping order in part if the Secretary concludes, inter alia, that one or more exporters or producers covered by the order have sold the merchandise at not less than normal value (NV) for a period of at least three consecutive years. Thus, in determining whether a requesting party is entitled to a revocation inquiry, the Department must determine that the party received zero or de minimis margins for the three years forming the basis for the revocation request. See Notice of Final Results of Antidumping Duty Administrative Review and Determination Not to Revoke the Antidumping Duty Order: Brass Sheet and Strip From the Netherlands, 65 FR 742, 743 (Jan. 6, 2000).

Tianjin's request was accompanied by a certification that it had not sold the subject merchandise at less than NV during the current period of review (POR) and would not do so in the future. Tianjin further certified that they sold the subject merchandise to the United States in commercial quantities for a period of at least three consecutive years. The company also agreed to immediate reinstatement of the antidumping duty order, as long as any exporter or producer is subject to the order, if the Department concludes that, subsequent to the revocation, Tianjin sold the subject merchandise at less than NV.

In this administrative review, we preliminarily find that, as indicated below, a margin of greater than 0.5 percent exists for Tianjin. As such, we preliminarily find that Tianjin does not qualify for revocation.

Separate Rates

It is the Department's policy to assign all exporters of the merchandise subject to review in non-market-economy (NME) countries a single rate, unless an exporter can demonstrate an absence of government control, both in law and in fact, with respect to its exports to the United States. To establish whether an exporter is sufficiently independent of government control to be entitled to a separate rate, the Department analyzes the exporter in light of the criteria established in the Final Determination of Sales at Less Than Fair Value: Sparklers from the People's Republic of China, 56 FR 20588 (May 6, 1991) (Sparklers), as amplified by Final Determination of Sales at Less Than Fair Value: Silicon Carbide from the People's Republic of China, 59 FR 22585 (May 2, 1994) (Silicon Carbide). Evidence supporting, though not requiring, a finding of de jure absence of government control over export activities includes: (1) An absence of restrictive stipulations associated with an individual exporter's business and export licenses; (2) any legislative enactments decentralizing control of companies; and (3) any other formal measures by the government decentralizing control of companies. With respect to evidence of a de facto absence of government control, the Department considers the following four factors: (1) Whether the respondent sets its own export prices independently from the government and other exporters; (2) whether the respondent can retain the proceeds from its export sales; (3) whether the respondent has the authority to negotiate and sign contracts; and (4) whether the respondent has autonomy from the government regarding the selection of management. See Silicon Carbide, 59 FR at 22587; see also Sparklers, 56 FR at 20589.

With respect to Guangdong and Tianjin, in our final results for the most recently completed review period (i.e., July 1, 1998, through June 30, 1999), the Department determined there was both de jure and de facto absence of government control of each company's export activities and determined that each company warranted a company-specific dumping margin. See Sebacic Acid from the People's Republic of China: Final Results of Antidumping Duty Administrative Review, 65 FR 49537, 49538 (Aug. 14, 2000) (Sebacic Acid Fifth Review). For this review, both Guangdong and Tianjin have responded to the Department's request for information regarding separate rates. We have found that the evidence on the record is consistent with the final results in the Sebacic Acid Fifth Review and continues to demonstrate an absence of both de jure and de facto government control with respect to their exports in accordance with the criteria identified in Sparklers and Silicon Carbide.

With respect to Sinochem International, which did not respond to the Department's questionnaire, we preliminarily determine that this company does not merit a separate rate. The Department assigns a single rate to companies in a non-market economy, unless an exporter demonstrates an absence of government control. We preliminarily determine that Sinochem International is subject to the country-wide rate for this review because it failed to demonstrate an absence of government control.

Use of Facts Available for Non-Responding Companies

On August 20, 2001, we issued an antidumping questionnaire to Sinochem International. Sinochem International did not respond to the questionnaire. Because we have received no response, we determine that the use of facts available is appropriate.

Section 776(a)(2) of the Act provides that “if an interested party or any other person (A) withholds information that has been requested by the administering authority; (B) fails to provide such information by the deadlines for the submission of the information or in the form and manner requested, subject to subsections (c)(1) and (e) of section 782; (C) significantly impedes a proceeding under this title; or (D) provides such information but the information cannot be verified as provided in section 782(i), the administering authority shall, subject to section 782(d), use the facts otherwise available in reaching the applicable determination under this title.”

Because Sinochem International, which is part of the PRC entity (see the “Separate Rates” section above), has failed to respond to the original questionnaire and has refused to participate in this administrative review, we find that, in accordance with sections 776(a)(2)(A) and (C) of the Act, the use of facts available is appropriate.

The Department finds that by not providing the necessary responses to the questionnaire issued by the Department, Sinochem International has failed to cooperate to the best of its ability. Therefore, in selecting from the facts available, the Department determines that an adverse inference is warranted.

Section 776(b) of the Act provides that, if the Department finds that an interested party “has failed to cooperate by not acting to the best of its ability to comply with a request for information,” the Department may use information that is adverse to the interests of the party as facts otherwise available. Adverse inferences are appropriate “to ensure that the party does not obtain a more favorable result by failing to cooperate than if it had cooperated fully.” See Statement of Administrative Action (SAA) accompanying the URAA, H.R. Doc. No. 103-316, at 870 (1994). Furthermore, “an affirmative finding of bad faith on the part of the respondent is not required before the Department may make an adverse inference.” See Antidumping Duties; Countervailing Duties: Final Rule, 62 FR 27296, 27340 (May 19, 1997) (Final Rule). Section 776(b) of the Act authorizes the Department to use as adverse facts available information derived from the petition, the final determination from the less than fair value (LTFV) investigation, a previous administrative review, or any other information placed on the record.

Sinochem International never attempted to respond to our questionnaire or explain why it could not respond. Without this information, the Department cannot make a determination of whether this company demonstrates an absence of government control and is therefore entitled to a separate rate. As noted above, section 776(b) of the Act provides that if the Department finds that an interested party has failed to cooperate by not acting to the best of its ability to comply with the Department's request for information, the Department may make an inference that is adverse to the interests of that party in selecting from the facts available, which includes information derived from the petition. In this proceeding, in accordance with Department practice, as adverse facts available we have preliminarily assigned Sinochem International and all other exporters subject to the PRC-wide rate the petition rate of 243.40 percent, which is the PRC-wide rate established in the LTFV investigation and currently in effect, and the highest dumping margin determined in any segment of this proceeding. See Notice of Final Determination of Sales at Less Than Fair Value: Sebacic Acid From the People's Republic of China, 59 FR 28053 (May 31, 1994). The Department's practice when selecting an adverse rate from among the possible sources of information is to ensure that the margin is sufficiently adverse “as to effectuate the purpose of the facts available role to induce respondents to provide the Department with complete and accurate information in a timely manner.” See Static Random Access Memory Semiconductors from Taiwan; Final Determination of Sales at Less than Fair Value, 63 FR 8909, 8932 (Feb. 23, 1998). The Department also considers the extent to which a party may benefit from its own lack of cooperation in selecting a rate. See Roller Chain, Other than Bicycle, from Japan; Notice of Final Results and Partial Recision of Antidumping Duty Administrative Review, 62 FR 60472, 60477 (Nov. 10, 1997). It is reasonable to assume that if Sinochem International could have demonstrated that its actual dumping margins were lower than the PRC-wide rate established in the LTFV investigation, it would have participated in this review and attempted to do so.

Section 776(c) of the Act provides that, where the Department selects from among the facts otherwise available and relies on “secondary information,” the Department shall, to the extent practicable, corroborate that information from independent sources reasonably at the Department's disposal. Secondary information is described in the SAA as “[i]nformation derived from the petition that gave rise to the investigation or review, the final determination concerning the subject merchandise, or any previous review under section 751 concerning the subject merchandise.” See SAA at 870. The SAA states that “corroborate” means to determine that the information used has probative value. See id. To corroborate secondary information, the Department will, to the extent practicable, examine the reliability and relevance of the information to be used. Although the petition rate of 243.40 percent constitutes secondary information, the information was corroborated in the most recently completed administrative review of sebacic acid from the PRC. See See Sebacic Acid From the People's Republic of China: Preliminary Results of Antidumping Duty Administrative Review, 65 FR 18968, 18970 (April 10, 2000) (unchanged in the final results) (Sebacic Acid Fifth Review Preliminary Results). With respect to the relevance aspect of corroboration, the Department will consider information reasonably at its disposal to determine whether a margin continues to have relevance. Where circumstances indicate that the selected margin is not appropriate as adverse facts available, the Department will disregard the margin and determine an appropriate margin. For example, in Fresh Cut Flowers from Mexico: Final Results of Antidumping Administrative Review, 61 FR 6812 (Feb. 22, 1996), the Department disregarded the highest margin in that case as adverse best information available (the predecessor to facts available) because the margin was based on another company's uncharacteristic business expense resulting in an unusually high margin. Similarly, the Department does not apply a margin that has been discredited. See D & L Supply Co. v. United States, 113 F.3d 1220, 1221 (Fed. Cir. 1997) (the Department will not use a margin that has been judicially invalidated); see also Borden Inc. v. United States, 4 F. Supp. 2d 1221, 1246-48 (CIT 1998) (the Department may not use an uncorroborated petition margin that is high when compared to calculated margins for the POR). None of these unusual circumstances are present here; nor have we any other reason to believe that application of the rate of 243.40 percent as adverse facts available would be inappropriate for the PRC-wide rate. Moreover, the rate used is the currently applicable PRC-wide rate. Thus, the 243.40 percent margin does have relevance. Accordingly, we have used the petition rate from the LTFV investigation, 243.40 percent, because there is no evidence on the record indicating that the selected margin is not appropriate as adverse facts available.

Export Price

For Guangdong and Tianjin, we calculated export price (EP) in accordance with section 772(a) of the Act because the subject merchandise was sold directly to the first unaffiliated purchaser in the United States prior to importation and constructed export price methodology was not otherwise warranted. As appropriate, we calculated EP based on packed, free-on-board, PRC-port prices to unaffiliated purchasers in the United States. We deducted from the starting price amounts for foreign inland truck freight and foreign brokerage and handling. As these movement services were provided by NME suppliers, we valued them using surrogate values from Indian suppliers. For further discussion of our use of surrogate data in a NME proceeding, as well as the selection of India as the appropriate surrogate country, see the “Normal Value” section of this notice, below.

For calculating inland truck freight for Guangdong and Tianjin, we used information obtained from the Indian newspaper Financial Express. For further discussion, see the Memorandum to the File from Michael Strollo entitled “Preliminary Valuation of Factors of Production for the Preliminary Results of the 2000-2001 Administrative Review of Sebacic Acid from the People's Republic of China,” dated July 31, 2002 (FOP Memo), which is on file in the Central Records Unit, Room B099 of the main Commerce building (CRU). For brokerage and handling expenses, we used information reported in the new shipper review of stainless steel wire rod from India. See Certain Stainless Steel Wire Rod From India; Final Results of Antidumping Duty Administrative and New Shipper Reviews, 64 FR 856 (Jan. 6, 1999).

Normal Value

Section 773(c)(1) of the Act provides that the Department shall determine the NV using a factors-of-production methodology if: (1) The merchandise is exported from a NME country; and (2) the information does not permit the calculation of NV using home-market prices, third-country prices, or constructed value (CV) under section 773(a) of the Act.

The Department has treated the PRC as a NME country in all previous antidumping cases. Furthermore, available information does not permit the calculation of NV using home market prices, third country prices, or CV under section 773(a) of the Act. In accordance with section 771(18)(C)(i) of the Act, any determination that a foreign country is a NME country shall remain in effect until revoked by the administering authority. None of the parties to this proceeding has contested such treatment in this review. Therefore, we treated the PRC as a NME country for purposes of this review and calculated NV by valuing the factors of production in a surrogate country.

Section 773(c)(4) of the Act and 19 CFR 351.408 direct us to select a surrogate country that is at a level of economic development comparable to that of the PRC. On the basis of per capita gross domestic product (GDP), the growth rate in per capita GDP, and the national distribution of labor, we find that India is at a level of economic development comparable to that of the PRC. See the Surrogate Country Selection Memorandum from Jeffrey May to Louis Apple Re: Administrative Review of Sebacic Acid from the People's Republic of China, dated September 24, 2001, which is on file in the CRU.

Section 773(c)(4) of the Act also requires that, to the extent possible, the Department use a surrogate country that is a significant producer of merchandise comparable to sebacic acid. We determined in prior reviews of this order that India was a significant producer of comparable merchandise (i.e., oxalic acid). See Sebacic Acid Fifth Review Preliminary Results, 65 FR at 18970 (unchanged in the final results). For this review, we find that India was a significant producer of oxalic acid during the POR based on the Customs Service import data, and no party to this proceeding has challenged this finding. See the memorandum to the File from Gregory Kalbaugh entitled “Oxalic Acid Production in India During the Period of Review,” dated July 16, 2002. We find that India fulfills both statutory requirements for use as the surrogate country and have continued to use India as the surrogate country in this administrative review. Unless otherwise noted, we have used publicly available information relating to India to value the various factors of production.

For purposes of calculating NV, we valued PRC factors of production in accordance with section 773(c)(1) of the Act. Factors of production include, but are not limited to: (1) Hours of labor required; (2) quantities of raw materials employed; (3) amounts of energy and other utilities consumed; and (4) representative capital cost, including depreciation. In examining surrogate values, we selected, where possible, the publicly available value which was: (1) An average non-export value; (2) representative of a range of prices within the POR or most contemporaneous with the POR; (3) product-specific; and (4) tax-exclusive. For a more detailed explanation of the methodology used in calculating various surrogate values, see the FOP Memo. In accordance with this methodology, we valued the factors of production as follows:

To value caustic soda, cresol, phenol, sulfuric acid, and zinc oxide, we obtained information from the Indian publication Chemical Weekly. Where necessary, we adjusted the values reported in Chemical Weekly to exclude sales and excise taxes. To value activated carbon and macropore resin, steam coal, inner polyethylene bags, woven plastic bags, jumbo plastic bags, and bag closing thread, we obtained import prices from the March 2001 annual volume of the Monthly Statistics of the Foreign Trade of India. To value castor oil and castor seed, we used information from the Economic Times of Bombay newspaper.

Consistent with the methodology employed in Sebacic Acid Fifth Review, we have determined that fatty acid, glycerine, and castor seed cake (when castor oil is self-produced) are by-products. Because they are by-products, we subtracted the sales revenue of fatty acid, glycerine, and, where applicable, castor seed cake, from the estimated production costs of sebacic acid. This treatment of by-products is also consistent with generally accepted accounting principles. See Cost Accounting: A Managerial Emphasis (1991) at pages 539-544. To value fatty acid and glycerine, we used prices published in Chemical Weekly. We valued castor seed cake using market prices quoted in the Economic Times of Bombay newspaper.

We also allocated a by-product credit for glycerine to the production cost for the co-product capryl alcohol. We deducted a by-product credit for glycerine from sebacic acid based on the ratio of the value of sebacic acid to the total value of both sebacic acid and capryl alcohol.

Consistent with the methodology employed in the previous administrative review, we have determined that capryl alcohol is a co-product and have allocated the factor inputs based on the relative surrogate values for this product and sebacic acid. Additionally, we have used the production times necessary to complete each production stage of sebacic acid as a basis for allocating the amount of labor, energy usage, and factory overhead among the co-product(s). This treatment of co-products is consistent with generally accepted accounting principles. See Cost Accounting: A Managerial Emphasis (1991) at pages 528-533. To value capryl alcohol, consistent with our methodology from the previous administrative review, we used POR market prices reported in the Chemical Weekly and adjusted the prices for sales and excise taxes.

For electricity, we derived a surrogate value based on 1998/1999 electricity price data published by Tata Energy Research Institute in The Energy Data Directory and Yearbook 1999/2000. These data were used in the antidumping duty administrative review of manganese metal from the PRC. See Notice of Final Results of Antidumping Duty Administrative Review of Manganese Metal from the People's Republic of China, 66 FR 15076 (Mar. 15, 2001) and accompanying decision memorandum at Comment 10; and Persulfates From the People's Republic of China: Final Results of Antidumping Duty Administrative Review, 66 FR 42628 (Aug. 14, 2001). We adjusted the values to reflect inflation up to the POR using the electricity-specific price index published by the Reserve Bank of India.

We made adjustments to account for freight costs between the suppliers and the respective manufacturing facilities for each of the factors of production identified above. In accordance with our practice, for inputs for which we used cost-insurance-freight import values from India, we calculated a surrogate freight cost using the shorter of the reported distances either from the closest PRC ocean port to the factory or from the domestic supplier to the factory. See Final Determination of Sales at Less Than Fair Value: Certain Cut-to-Length Carbon Steel Plate From the People's Republic of China, 62 FR 61964, 61977 (Nov. 20, 1997); see also Sigma Corp. v. United States, 117 F.3d 1401 (Fed. Cir. 1997).

For calculating foreign inland truck freight, we used information obtained from the Indian newspaper Financial Express. See the FOP Memo. To value foreign inland rail freight, we relied upon price quotes obtained from Indian rail freight companies in November 1999. These quotes were used in the investigation of bulk aspirin from the PRC and the 1999-2000 administrative review of tapered roller bearings from the PRC. See Notice of Preliminary Determination of Sales at Less Than Fair Value: Bulk Aspirin From the People's Republic of China, 65 FR 116, 119 (Jan. 3, 2000); and Tapered Roller Bearings and Parts Thereof, Finished and Unfinished, From the People's Republic of China: Preliminary Results of 1999-2000 Administrative Review, Partial Rescission of Review, and Notice of Intent Not To Revoke Order in Part, 66 FR 35937, 35941 (July 10, 2001). We averaged these quotes, then inflated this average to the POR using the wholesale price index data published in the International Monetary Fund's International Financial Statistics.

To value marine insurance, we relied on price quotes obtained from Roanoke Trade Services, Inc., a provider of marine insurance. See the memorandum to the File from Gregory Kalbaugh entitled “Marine Insurance Rates,” dated July 9, 2002, which is on file in the CRU. To value ocean freight, we relied upon price quotes obtained from Maersk Sealand, a provider of ocean freight services. See the memorandum to the File from Gregory Kalbaugh entitled “Ocean Freight Rates,” dated July 9, 2002, which is on file in the CRU.

We valued labor based on a regression-based wage rate, in accordance with 19 CFR 351.408(c)(3). This information is available on the Department's website at http://ia.ita.doc.gov/wages/9.

To value factory overhead, selling, general, and administrative expenses, and profit, we obtained data from the January 1997 Reserve Bank of India Bulletin.

Preliminary Results of Review

We preliminarily determine that the following margins exist for the period July 1, 2000, through June 30, 2001:

Manufacturer/exporter | Margin (percent)
Guangdong Import and Export Corporation | 2.05
Sinochem Tianjin Import and Export Corporation | 1.95
PRC-Wide Rate | 243.40

The Department will disclose to parties the calculations performed in connection with these preliminary results within five days of the date of publication of this notice. Interested parties may request a hearing within 30 days of the publication. Any hearing, if requested, will be held 44 days after the publication of this notice, or the first workday thereafter. Interested parties may submit case briefs not later than 30 days after the date of publication of this notice. Rebuttal briefs, limited to issues raised in the case briefs, may be filed not later than 35 days after the date of publication of this notice. The Department will publish a notice of the final results of this administrative review, which will include the results of its analysis of issues raised in any such written briefs, within 120 days of the publication of these preliminary results.

The Department will determine and the Customs Service shall assess antidumping duties on all appropriate entries. The Department will issue appropriate appraisement instructions directly to the Customs Service upon completion of this review. The final results of this review shall be the basis for the assessment of antidumping duties on entries of merchandise covered by this review and for future deposits of estimated duties.

For assessment purposes, we do not have the information to calculate an estimated entered value. Accordingly, we have calculated importer-specific duty assessment rates for the merchandise by aggregating the dumping margins calculated for all U.S. sales and dividing this amount by the total quantity of those sales. To determine whether the duty assessment rates were de minimis, in accordance with the requirement set forth in 19 CFR 351.106(c)(2), we calculated importer-specific ad valorem ratios based on the EPs.

Furthermore, the following deposit requirements will be effective upon publication of the final results of this administrative review for all shipments of the subject merchandise entered, or withdrawn from warehouse, for consumption on or after the publication date, as provided by section 751(a)(1) of the Act: (1) The cash deposit rate for Guangdong and Tianjin will be that established in the final results of this administrative review; (2) for a company previously found to be entitled to a separate rate and for which no review was requested, the cash deposit rate will be the rate established in the most recent review of that company; (3) the cash deposit rate for all other PRC exporters will be 243.40 percent, the PRC-wide rate established in the LTFV investigation; and (4) the cash deposit rate for a non-PRC exporter of subject merchandise from the PRC will be the rate applicable to the PRC supplier of that exporter. These requirements, when imposed, shall remain in effect until publication of the final results of the next administrative review.

Notification of Interested Parties

This notice serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

This administrative review is issued and published in accordance with sections 751(a)(1) and 777(i)(1) of the Act.

Dated: July 31, 2002.
Faryar Shirzad,
Assistant Secretary, Import Administration.

[FR Doc. 02-19828 Filed 8-5-02; 8:45 am]

BILLING CODE 3510-DS-P